NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold five meetings, by video conference, of the Humanities Panel, a federal advisory committee, during March 2026. The purpose of the meetings is for panel review, discussion, evaluation, and recommendation of applications for financial assistance under the National Foundation on the Arts and the Humanities Act of 1965.

DATES: See SUPPLEMENTARY INFORMATION for meeting dates. The meetings will open at 1:00 p.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: March 6, 2026

This video meeting will discuss applications on the topic of Continuing State Partners, for the National Digital Newspaper Program grant program, submitted to the Division of Collections and Infrastructure.

2. Date: March 12, 2026

This video meeting will discuss applications on the topics of American Government and History, for the Rediscovering Our Revolutionary Tradition grant program, submitted to the Division of Collections and Infrastructure.

3. Date: March 19, 2026

This video meeting will discuss applications on the topics of Local Government and History, for the Rediscovering Our Revolutionary Tradition grant program, submitted to the Division of Collections and Infrastructure.

4. Date: March 23, 2026

This video meeting will discuss applications on the topics of Early American History and Culture, for the Rediscovering Our Revolutionary Tradition grant program, submitted to the Division of Collections and Infrastructure.

5. Date: March 24, 2026

This video meeting will discuss applications on the topics of Military History and Material Culture, for the Rediscovering Our Revolutionary Tradition grant program, submitted to the Division of Collections and Infrastructure.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: February 17, 2026.
Kimberly Hylan,
Attorney-Advisor, National Endowment for the Humanities.

[FR Doc. 2026-03349 Filed 2-19-26; 8:45 am]

BILLING CODE 7536-01-P